DEPARTMENT OF TRANSPORTATION

Federal Aviation Administration

14 CFR Part 39

[Docket No. 2003-CE-47-AD; Amendment 39-13584; AD 2004-08-15]

RIN 2120-AA64

Airworthiness Directives; Goodrich Avionics Systems, Inc. TAWS8000 Terrain Awareness Warning System

AGENCY: Federal Aviation Administration (FAA), DOT.

ACTION: Final rule.

SUMMARY: The FAA supersedes Airworthiness Directive (AD) 2003-13-08, which currently applies to all Goodrich Avionics Systems, Inc. (Goodrich) TAWS8000 terrain awareness warning systems (TAWS) that are installed on airplanes. AD 2003-13-08 currently requires you to inspect the TAWS installation and remove any TAWS where both the TAWS and any other device are connected to the same baro set potentiometer. AD 2003-13-08 also prohibits future installation of any TAWS8000 TAWS that incorporates hardware “Mod None”, “Mod A”, or “Mod B”. This AD is the result of omitting from AD 2003-13-08 a provision that prohibits reconfiguring an installed TAWS8000 TAWS after it passes the inspection unless it incorporates hardware “Mod C”. This AD retains the actions of AD 2003-13-08 and prohibits future installation or reconfiguration of any TAWS8000 TAWS that does not incorporate hardware “Mod C”. We are issuing this AD to prevent the loading of the baro set potentiometer, which could result in an unacceptable altitude error. That condition could cause the pilot to make flight decisions that put the airplane in unsafe flight conditions.

DATES: This AD becomes effective on June 7, 2004.

On July 21, 2003 (68 FR 38586, June 30, 2003), the Director of the Federal Register approved the incorporation by reference of Goodrich Avionics Systems, Inc. Service Memo SM #134, dated May 2, 2003.

As of June 7, 2004, the Director of the Federal Register approved the incorporation by reference of Goodrich Avionics Systems, Inc. Service Memo SM #134, revised July 9, 2003; and Goodrich Avionics Systems, Inc. Alert Service Bulletin SB #A117, dated July 9, 2003.

ADDRESSES: You may get the service information identified in this AD from Goodrich Avionics Systems, Inc., 5353 52nd Street, SE., Grand Rapids, Michigan 49512-9704; telephone: (616) 949-6600; facsimile: (616) 977-6898.

You may view the AD docket at FAA, Central Region, Office of the Regional Counsel, Attention: Rules Docket No. 2003-CE-47-AD, 901 Locust, Room 506, Kansas City, Missouri 64106. Office hours are 8 a.m. to 4 p.m., Monday through Friday, except Federal holidays.

FOR FURTHER INFORMATION CONTACT: Brenda S. Ocker, Aerospace Engineer, FAA, Chicago Aircraft Certification Office, 2300 East Devon Avenue, Des Plaines, Illinois 60018; telephone: (847) 294-7126; facsimile: (847) 294-7834.

SUPPLEMENTARY INFORMATION:

Discussion

What events have caused this AD? Reports that the Goodrich TAWS8000 TAWS causes altitude errors in other instruments when both the TAWS and any other device are connected to the same baro set potentiometer caused us to issue AD 2003-13-08, Amendment 39-13208.

The unsafe condition was discovered during the installation of a TAWS8000 TAWS in a Cessna 500 series airplane. The TAWS8000 TAWS was connected to the baro set potentiometer output of a Honeywell (Sperry) BA-141 altimeter that was also connected to a Honeywell AZ-241 Air Data Computer. The altimeter showed that the aircraft was 60 feet higher than the actual altitude. This unsafe condition was confirmed with the laboratory test of a TAWS8000 TAWS installation.

What has happened since AD 2003-13-08 to initiate this action? We omitted from AD 2003-13-08 a provision that prohibits reconfiguring an installed TAWS8000 TAWS after it passes the inspection unless it incorporates hardware “Mod C”.

Since we issued AD 2003-13-08, Goodrich Avionics System, Inc. has also developed a production improvement (Mod C) to eliminate the effect of loading on the baro set potentiometer. Goodrich has issued an alert service bulletin to implement this modification.

We received comments about the language in AD 2003-13-08. Owners/operators are restricted from installing any TAWS8000 TAWS (part number 805-18000-001 that incorporates hardware “Mod None”, “Mod A”, or “Mod B”). When the unit is modified to incorporate hardware “Mod C”, the unit will still have “Mod None”, “Mod A”, or “Mod B” marked on it. The intent of the AD was to allow for hardware modifications other than “Mod None”, “Mod A”, or “Mod B” to be installed.

What is the potential impact if FAA took no action? AD 2003-13-08, as currently written, could cause confusion as to how to incorporate the actions necessary in correcting the unsafe condition.

Has FAA taken any action to this point? We issued a proposal to amend part 39 of the Federal Aviation Regulations (14 CFR part 39) to include an AD that would apply to all Goodrich Avionics Systems, Inc. (Goodrich) TAWS8000 terrain awareness warning systems (TAWS) that are installed on airplanes. This proposal was published in the Federal Register as a notice of proposed rulemaking (NPRM) on December 3, 2003 (68 FR 67611). The NPRM proposed to supersede AD 2003-13-08 with a new AD that proposes to require you to inspect the TAWS installation and modify any TAWS where both the TAWS and any other device are connected to the same baro set potentiometer. This NPRM also proposed to prohibit future installation or reconfiguration of any TAWS8000 TAWS that does not incorporate hardware “Mod C”.

Comments

Was the public invited to comment? We provided the public the opportunity to participate in developing this AD. We received no comments on the proposal or on the determination of the cost to the public.

Conclusion

What is FAA's final determination on this issue? We have carefully reviewed the available data and determined that air safety and the public interest require adopting the AD as proposed except for the changes discussed above and minor editorial corrections. We have determined that these changes and minor corrections:

—Are consistent with the intent that was proposed in the NPRM for correcting the unsafe condition; and

—Do not add any additional burden upon the public than was already proposed in the NPRM.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 80 airplanes in the U.S. registry.

What is the cost impact of this AD on owners/operators of the affected airplanes? We estimate the following costs to accomplish the inspection:

Labor cost | Parts cost | Total cost per airplane | Total cost on U.S. operators
1 workhour × $65 = $65 | Not applicable | $65 | $65 × 80 = $5,200

We estimate the following costs to accomplish any necessary modifications that will be required based on the results of this inspection. We have no way of determining the number of airplanes that may need the modification:

Labor cost | Parts cost | Total cost per airplane
2 workhours × $65 = $130 (1 workhour to remove and 1 workhour to replace) | All units will be modified at the Goodrich Avionics Systems facility under warranty | $130

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2003-CE-47-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. The FAA amends § 39.13 by removing Airworthiness Directive (AD) 2003-13-08, Amendment 39-13208 (68 FR 38586, June 30, 2003), and by adding a new AD to read as follows:

2004-08-15 Goodrich Avionics Systems, Inc.: Amendment 39-13584; Docket No. 2003-CE-47-AD; Supersedes AD 2003-13-08, Amendment 39-13208.

When Does This AD Become Effective?

(a) This AD becomes effective on June 7, 2004.

What Other ADs Are Affected By This Action?

(b) This AD supersedes AD 2003-13-08.

What Airplanes Are Affected by This AD?

(c) This AD affects all airplane models and serial numbers, certificated in any category, that incorporate a Goodrich TAWS8000 terrain awareness warning system (TAWS), part number (P/N) 805-18000-001, with “Mod None”, “Mod A”, or “Mod B” hardware installed. This list of airplanes that have the TAWS8000 TWAS installed includes, but is not limited to, the following airplanes. Airplanes that are not in this list and have the TAWS installed through field approval or other methods are still affected by this AD:

Company | Models
Cessna Aircraft Company | 421, 500, 501, 525, 525A, 550, 551, 650, and S550
DASSAULT AVIATION | Mystere-Falcon 20 series
Gulfstream Aerospace LP | 1125 Westwind Astra
Raytheon Aircraft Company | 100, 200, 300, 400A, and F90
Sabreliner Corporation | NA-265
The New Piper Aircraft Inc | PA-42-1000

What Is the Unsafe Condition Presented in This AD?

(d) The actions specified by this AD are intended to prevent the loading of the baro set potentiometer, which could result in an unacceptable altitude error. This condition could cause the pilot to make flight decisions that put the airplane in unsafe flight conditions.

What Must I Do To Address This Problem?

(e) To address this problem, you must do the following:

Actions | Compliance | Procedures
(1) Inspect the TAWS8000 TAWS (part number 805-18000-001 that incorporates hardware “Mod None”, “Mod A”, or “Mod B”) installation to determine if both the TAWS8000 TAWS and any other device are connected to the same baro set potentiometer | Within the next 5 hours time-in-service (TIS) after July 21, 2003 (the effective date of AD 2003-13-08), unless already done | Follow Goodrich Avionics Systems, Inc. Service Memo SM #134, dated May 2, 2003, or Goodrich Avionics Systems, Inc. Service Memo SM #134, revised July 9, 2003, and the applicable installation manual.
(2) If both the TAWS8000 TAWS and any other device are connected to the same baro set potentiometer, remove the TAWS8000 TAWS and cap and stow the connecting wires or replace the TAWS8000 TAWS unit with a unit that incorporates hardware “Mod C” | Before further flight after the inspection required in paragraph (d)(1) of this AD | For removing the TAWS8000 TAWS, follow Goodrich Avionics Systems, Inc. Service Memo SM #134, dated May 2, 2003, or Goodrich Avionics Systems, Inc. Service Memo SM #134, revised July 9, 2003, and the applicable installation manual. For replacing the TAWS8000 TAWS, follow Goodrich Avionics Systems, Inc. Alert Service Bulletin SB #A117, dated July 9, 2003.
(3) Do not install or reconfigure any TAWS8000 TAWS (part number 805-18000-001) that does not incorporate hardware “Mod C” | As of June 7, 2004 (the effective date of this AD) | Not Applicable.

May I Request an Alternative Method of Compliance?

(f) You may request a different method of compliance or a different compliance time for this AD by following the procedures in 14 CFR 39.19.

(1) Unless FAA authorizes otherwise, send your request to your principal inspector. The principal inspector may add comments and will send your request to the Manager, Chicago Aircraft Certification Office (ACO), FAA. For information on any already approved alternative methods of compliance, contact Brenda S. Ocker, Aerospace Engineer, FAA, Chicago Aircraft Certification Office, 2300 East Devon Avenue, Des Plaines, Illinois 60018; telephone: (847) 294-7126; facsimile: (847) 294-7834.

(2) Alternative methods of compliance approved under AD 2003-13-08, which is superseded by this AD, are approved as alternative methods of compliance with this AD.

Does This AD Incorporate Any Material by Reference?

(g) You must do the actions required by this AD following the instructions in Goodrich Avionics Systems, Inc. Service Memo SM #134, dated May 2, 2003; Goodrich Avionics Systems, Inc. Service Memo SM #134, revised July 9, 2003; and Goodrich Avionics Systems, Inc. Alert Service Bulletin SB #A117, dated July 9, 2003.

(1) On July 21, 2003 (68 FR 38586, June 30, 2003), and in accordance with 5 U.S.C. 552(a) and 1 CFR part 51, the Director of the Federal Register approved the incorporation by reference of Goodrich Avionics Systems, Inc. Service Memo SM #134, dated May 2, 2003.

(2) As of June 7, 2004, and in accordance with 5 U.S.C. 552(a) and 1 CFR part 51, the Director of the Federal Register approved the incorporation by reference of Goodrich Avionics Systems, Inc. Service Memo SM #134, revised July 9, 2003; and Goodrich Avionics Systems, Inc. Alert Service Bulletin SB #A117, dated July 9, 2003.

(3) You may get a copy from Goodrich Avionics Systems, Inc., 5353 52nd Street, SE., Grand Rapids, Michigan 49512-9704; telephone: (616) 949-6600; facsimile: (616) 977-6898. You may review copies at FAA, Central Region, Office of the Regional Counsel, 901 Locust, Room 506, Kansas City, Missouri 64106; or at the Office of the Federal Register, 800 North Capitol Street, NW., suite 700, Washington, DC.

Issued in Kansas City, Missouri, on April 13, 2004.
James E. Jackson,
Acting Manager, Small Airplane Directorate, Aircraft Certification Service.

[FR Doc. 04-8792 Filed 4-20-04; 8:45 am]

BILLING CODE 4910-13-P